DEPARTMENT OF ENERGY

Federal Energy Regulatory Commission

Combined Notice of Filings

Take notice that the Commission has received the following Natural Gas Pipeline Rate and Refund Report filings:

Filings Instituting Proceedings

Docket Numbers: RP12-91-000.

Applicants: Transcontinental Gas Pipe Line Company.

Description: 2012 Penalty Sharing Report.

Filed Date: 11/9/12.

Accession Number: 20121109-5043.

Comments Due: 5 p.m. ET 11/21/12.

Docket Numbers: RP13-268-000.

Applicants: Natural Gas Pipeline Company of America.

Description: Amendment Filing—Tenaska Negotiated Rate Agreement to be effective 11/9/2012.

Filed Date: 11/9/12.

Accession Number: 20121109-5073.

Comments Due: 5 p.m. ET 11/21/12.

Docket Numbers: RP13-269-000.

Applicants: Natural Gas Pipeline Company of America.

Description: Amendment Filing—Tenaska Negotiated Rate Agreement to be effective 11/9/2012.

Filed Date: 11/9/12.

Accession Number: 20121109-5075.

Comments Due: 5 p.m. ET 11/21/12.

Docket Numbers: RP13-270-000.

Applicants: Midwestern Gas Transmission Company.

Description: Non-Conforming Agreement—Total to be effective 11/1/2012.

Filed Date: 11/9/12.

Accession Number: 20121109-5122.

Comments Due: 5 p.m. ET 11/21/12.

Docket Numbers: RP13-271-000.

Applicants: Granite State Gas Transmission, Inc.

Description: Sixth Revised Volume 1 to be effective 12/10/2012.

Filed Date: 11/9/12.

Accession Number: 20121109-5175.

Comments Due: 5 p.m. ET 11/21/12.

Docket Numbers: RP13-272-000.

Applicants: Southern Natural Gas Company, L.L.C.

Description: Gas Quality Correction to be effective 11/1/2012.

Filed Date: 11/9/12.

Accession Number: 20121109-5177.

Comments Due: 5 p.m. ET 11/21/12.

Docket Numbers: RP13-273-000.

Applicants: Southern Natural Gas Company, L.L.C.

Description: South of Toca Facilities Sale to be effective 11/1/2012.

Filed Date: 11/9/12.

Accession Number: 20121109-5178.

Comments Due: 5 p.m. ET 11/21/12.

Docket Numbers: RP13-274-000.

Applicants: Gulf Crossing Pipeline Company LLC.

Description: Amendment to Neg Rate Agmt (JP Morgan 156-3) to be effective 11/10/2012.

Filed Date: 11/13/12.

Accession Number: 20121113-5017.

Comments Due: 5 p.m. ET 11/26/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-1121-002.

Applicants: Portland General Electric Company.

Description: Order 587-V Compliance Filing Second Corrected Section 25 to be effective 12/1/2012.

Filed Date: 11/9/12.

Accession Number: 20121109-5085.

Comments Due: 5 p.m. ET 11/16/12.

Any person desiring to protest in any the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 13, 2012.
Nathaniel J. Davis, Sr.,
Deputy Secretary.

[FR Doc. 2012-28125 Filed 11-19-12; 8:45 am]

BILLING CODE 6717-01-P